DEPARTMENT OF ENERGY

Federal Energy Regulatory Commission

[Project No. 13829-001-ID]

Mr. David Creasey; Notice of Availability of Environmental Assessment

In accordance with the National Environmental Policy Act of 1969 and the Federal Energy Regulatory Commission's regulations, 18 CFR Part 380 (Order No. 486, 52 FR 47897), the Office of Energy Projects has reviewed the application for an original license to construct the Creasey Hydropower Project, and has prepared an environmental assessment (EA). The proposed 20-kilowatt project would be located on Lincoln Creek and the Lincoln Creek drainage ditch on the Fort Hall Reservation in Fort Hall, Idaho. The project would be located entirely on private property owned by the applicant.

The EA includes staff's analysis of the potential environmental impacts of the project and concludes that licensing the project would not constitute a major federal action that would significantly affect the quality of the human environment.

A copy of the EA is available for review at the Commission in the Public Reference Room or may be viewed on the Commission's Web site at http://www.ferc.gov, using the “eLibrary” link. Enter the docket number, excluding the last three digits in the docket number field, to access the document. For assistance, contact FERC Online Support at FERCOnlineSupport@ferc.gov, or toll-free at (866) 208-3676, or for TTY, (202) 502-8659.

You may also register online at http://www.ferc.gov/esubscribenow.htm to be notified via e-mail of new filings and issuances related to this or other pending projects. For assistance, contact FERC Online Support at FERCOnlineSupport@ferc.gov or toll-free at 1-866-208-3676, or for TTY, (202) 502-8659.

Please contact Ryan Hansen by telephone at (202) 502-8074, or by e-mail at ryan.hansen@ferc.gov, if you have any questions.

Dated: June 28, 2011.
Kimberly D. Bose,
Secretary.

[FR Doc. 2011-16948 Filed 7-6-11; 8:45 am]

BILLING CODE 6717-01-P